DEPARTMENT OF TRANSPORTATION

Federal Highway Administration

Environmental Impact Statement Adoption; Washington, DC

AGENCY: Federal Highway Administration (FHWA), DOT.

ACTION: Notice of intent.

SUMMARY: The FHWA is issuing this notice to advise the public of its intent to adopt an existing Final Environmental Impact Statement in accordance with the Council on Environmental Quality regulations, 40 CFR 1506.3. The Final EIS has been prepared and approved by the National Park Service (NPS).

FOR FURTHER INFORMATION CONTACT: Jack Van Dop, Senior Technical Specialist, Federal Highway Administration, 21400 Ridgetop Circle, Sterling, VA 20166, Telephone 703-404-6282.

SUPPLEMENTARY INFORMATION:

Electronic Access

An electronic copy of this document may be downloaded by using a computer, modem and suitable communications software from Government Printing Office's Electronic Bulletin Board Service at (202) 512-1661. Internet users may reach the Office of the Federal Register's home page at: http://www.nara.gov/fedreg and the Government Printing Office's Web site at: http://www.access.gpo.gov/nara. The Final EIS, prepared by NPS is posted on their Planning, Environment & Public Comment Web site at http://parkplanning.nps.gov/document.cfm?parkID=374&projectID=26159&documentID=37956. A hardcopy of the NPS Final EIS can be viewed at the following locations until March 28, 2014, Federal Highway Administration, Eastern Federal Lands Highway Division, 21400 Ridgetop Circle, Sterling, VA 20166 and NPS Everglades National Park Headquarters, 40001 State Road 9336, Homestead, FL 33034-6733.

Background

The FHWA intends to adopt the approved Final EIS for the Tamiami Trail Modifications: Next Steps, prepared by the NPS. The FHWA adoption is proposed in order to meet the agency's National Environmental Policy Act (NEPA) requirements associated with the use of U.S. Department of Transportation funds for this action and possible involvement of FHWA in the implementation of the project, as proposed in the NPS Tamiami Trail Modifications: Next Steps Final EIS. The project consists of modifications to the Tamiami Trail, including bridging and road raising, required to restore the ecological conditions in Northeast Shark River Slough and the Water Conservation Areas and establish the foundation for future restoration efforts in the Everglades. The Final EIS considered the social, environmental, and economic impacts of the project. The No-Action Alternative and five Action Alternatives were considered in the Final EIS. All of the Action Alternatives included bridge construction and reconstruction of the remaining highway, with differences being in the bridge lengths and locations. Generally, where bridging of the Tamiami Trail is to occur, the bridges will be constructed adjacent to the existing roadway and the existing roadway and embankment will be removed once the bridge section is open to public traffic.

Agency Action

The NPS Preferred Alternative, Alternative 6e, is identified in the Final EIS. FHWA will prepare its own Record of Decision for the Selected Alternative in accordance with 40 CFR 1505.2.

(Catalog of Federal Domestic Assistance Program Number 20.205, Highway Planning and Construction. The regulations implementing Executive Order 12372 regarding intergovernmental consultation on Federal programs and activities apply to this proposed action.)

Dated: February 5, 2014.
Karen A. Schmidt,
Director, Program Administration, Federal Highway Administration, Sterling, Virginia.

[FR Doc. 2014-03206 Filed 2-12-14; 8:45 am]

BILLING CODE 4910-22-P